ENVIRONMENTAL PROTECTION AGENCY

[ER-FRL-8597-2]

Environmental Impact Statements; Notice of Availability

Responsible Agency: Office of Federal Activities, General Information (202) 564-1399 or http://www.epa.gov/compliance/nepa/

Weekly receipt of Environmental Impact Statements

Filed 08/31/2009 Through 09/04/2009

Pursuant to 40 CFR 1506.9

EIS No. 20090310, Draft Supplement, AFS, ID, Small-Scale Suction Dredging in Lolo Creek and Moose Creek Project, Updated Information to Analysis Three Alternatives, Clearwater National Forest, North Fork Ranger District, Clearwater and Idaho Counties, ID, Comment Period Ends: 10/26/2009, Contact: Doug Gober 208-476-4541

EIS No. 20090311, Final EIS, USN, WA, Naval Base Kitsap—Bangor, Construct and Operate a Swimmer Interdiction Security System (SISS), Silverdale Kitsap County, WA, Wait Period Ends: 10/13/2009, Contact: Shannon Kasa 619-53-3889

EIS No. 20090312, Draft EIS, COE, OH, Cleveland Harbor Dredged Material Management Plan, Operations and Maintenance, Cuyahoga County, OH, Comment Period Ends: 10/26/2009, Contact: Frank O'Connor 716-879-4131

EIS No. 20090313, Draft EIS, AFS, CA, Freds Fire Reforestation Project, Implementation, EL Dorado National Forest, Placerville and Pacific Ranger Districts, El Dorado County, CA, Comment Period Ends: 10/26/2009, Contact: Robert Carroll 530-647-5386

EIS No. 20090314, Draft EIS, FHW, IL, TIER 1—Elgin O'Hare—West Bypass Study, To Identify Multimodal Transportation Solutions, Cook and DuPage Counties, IL, Comment Period Ends: 10/26/2009, Contact: Matt Fuller 217-492-4625

EIS No. 20090315, Draft EIS, FTA, CA, Crenshaw Transit Corridor Project, Proposes to Improve Transit Services, Funding, Los Angeles County Metropolitan Transportation Authority (LACMTA), Los Angeles County, CA, Comment Period Ends: 10/26/2009, Contact: Roderick Diaz 213-922-3018

EIS No. 20090316, Final EIS, FTA, 00, PROGRAMMATIC—Streamlining the Processing of Experimental Permit Applications, Issuing Experimental Permits for the Launch and Reentry of Useable Suborbital Rockets, Wait Period Ends: 10/13/2009, Contact: Daniel Czelusniak 202-267-5924

EIS No. 20090317, Draft EIS, USA, VA, Fort Monroe US Army Garrison Base Realignment and Closure (BRAC) 2005 Disposal and Reuse of Surplus Nonreverting Property, Fort Monroe, VA, Comment Period Ends: 10/26/2009, Contact: Bob Ross 703-602-2878

EIS No. 20090318, Draft EIS, USA, WA, Fort Lewis Army Growth and Force Structures Realignment, Implementation, Fort Monroe and Yakima Training Center, Kittitas, Pierce, Thurston and Yakima Counties, WA, Comment Period Ends: 10/26/2009, Contact: B. Van Hoesen 253-966-1780

EIS No. 20090319, Final EIS, USA, AK, U.S. Army Alaska (USARAK) Project, Proposes the Stationing and Training of Increased Aviation Assets, Fort Wainwright, Fairbank, AK, Wait Period Ends: 10/13/2009, Contact: Jennifer Shore 703-602-4238

Amended Notices

EIS No. 20090304, Final EIS, AFS, 00, Inyo National Forest Motorized Travel Management Project, Implementation, Inyo, Mono, Fresno, Madera and Tulare Counties, CA and Mineral and Esmeralda Counties, NV, Wait Period Ends: 10/05/2009, Contact: Susan Joyce 760-873-2516

Revision to FR Notice Published 09/04/2009: Correction to Counties and States

EIS No. 20090309, Final EIS, FTA, MO, East Corridor Project, Proposes Commuter Rail Transit from downtown Denver to International Airport (DIA), Denver, Adams, Arapahoe, Jefferson and Douglas Counties, CO, Wait Period Ends: 10/05/2009, Contact: David Beckhouse 720-963-3306

Revision to FR Notice Published 09/04/2009: Correction to Title and Federal Agency.

Dated: September 8, 2009.
Ken Mittelholtz,
Deputy Director, NEPA Compliance Division, Office of Federal Activities.

[FR Doc. E9-21944 Filed 9-10-09; 8:45 am]

BILLING CODE 6560-50-P